DEPARTMENT OF DEFENSE

United States Marine Corps; Privacy Act of 1974; System of Records

AGENCY: United States Marine Corps, DoD.

ACTION: Notice to delete a system of records.

SUMMARY: The U.S. Marine Corps is deleting a system of records notice from its inventory of records systems subject to the Privacy Act of 1974, as amended (5 U.S.C. 552a).

DATES: Effective November 14, 2007.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a), as amended, have been published in the Federal Register and are available from the address above.

The U.S. Marine Corps proposes to delete a system of records notices from its inventory of record systems subject to the Privacy Act of 1974 (5 U.S.C. 552a), as amended. The changes to the system of records are not within the purview of subsection (r) of the Privacy Act of 1974 (5 U.S.C. 552a), as amended, which requires the submission of new or altered systems reports.

Dated: November 7, 2007.
L.M. Bynum,
Alternate OSD Federal Register Liaison Officer, Department of Defense.

Deletion

MMN00018

System name:

Base Security Incident Report System (February 22, 1993, 58 FR 10630).

Reason:

With the U.S. Marine Corps being a principal component of the Department of Navy, they are combining like systems. These records are now filed in the Navy's NM05580-1, Security Incident System which was published in the Federal Register on January 9, 2007, with number 72 FR 958.

[FR Doc. E7-22194 Filed 11-13-07; 8:45 am]

BILLING CODE 5001-06-P